Executive Order 13363 of November 29, 2004

Establishing the Afghanistan and Iraq Campaign Medals

By the authority vested in me as President by the Constitution and the laws of the United States of America, including my authority as Commander in Chief of the Armed Forces of the United States and Public Law 108-234, it is hereby ordered as follows:

Section 1. Afghanistan Campaign Medal. There is hereby established the Afghanistan Campaign Medal with suitable appurtenances. Except as limited in section 3 of this order, and under uniform regulations to be prescribed by the Secretaries of the military departments and approved by the Secretary of Defense, or under regulations to be prescribed by the Secretary of Homeland Security with respect to the Coast Guard when it is not operating as a service in the Navy, the Afghanistan Campaign Medal shall be awarded to members of the uniformed services of the United States who serve or have served in Afghanistan or contiguous air space, as defined by such regulations, on or after October 24, 2001, and before a terminal date to be prescribed by the Secretary of Defense.

Sec. 2. Iraq Campaign Medal. There is hereby established the Iraq Campaign Medal with suitable appurtenances. Except as limited in section 3 of this order, and under uniform regulations to be prescribed by the Secretaries of the military departments and approved by the Secretary of Defense, or under regulations to be prescribed by the Secretary of Homeland Security with respect to the Coast Guard when it is not operating as a service in the Navy, the Iraq Campaign Medal shall be awarded to members of the uniformed services of the United States who serve or have served in Iraq or contiguous waters or air space, as defined by such regulations, on or after March 19, 2003, and before a terminal date to be prescribed by the Secretary of Defense.

Sec. 3. Relationship to Other Awards. Notwithstanding section 1 of Executive Order 13289 of March 12, 2003, establishing the Global War on Terrorism Expeditionary Medal, any member who qualified for that medal by reason of service in Afghanistan between October 24, 2001, and a terminal date to be determined by the Secretary of Defense, or in Iraq between March 19, 2003, and a terminal date to be determined by the Secretary of Defense, shall remain qualified for that medal. Upon application, a member by reason of service may be awarded either the Afghanistan Campaign Medal or the Iraq Campaign Medal in lieu of the Global War on Terrorism Expeditionary Medal. A member may be awarded either the Afghanistan Campaign Medal or the Global War on Terrorism Expeditionary Medal by reason of service in Afghanistan. A member may be awarded either the Iraq Campaign Medal or the Global War on Terrorism Expeditionary Medal by reason of service in Iraq. No member shall be entitled to the award of more than one of these three medals for the same period of service.

Sec. 4. Posthumous Award. The Afghanistan Campaign Medal and Iraq Campaign Medal may be awarded posthumously to any person covered by and under regulations prescribed in accordance with this order.

B

THE WHITE HOUSE,

November 29, 2004.

[FR Doc. 04-26685

Filed 12-1-04; 9:47 am]

Billing code 3195-01-P